DEPARTMENT OF HOMELAND SECURITY

Federal Emergency Management Agency

44 CFR Part 67

[Docket ID FEMA-2010-0003; Internal Agency Docket No. FEMA-B-1089]

Proposed Flood Elevation Determinations

AGENCY: Federal Emergency Management Agency, DHS.

ACTION: Proposed rule; correction.

SUMMARY: On May 25, 2010, FEMA published in the Federal Register a proposed rule that contained an erroneous table. This notice provides corrections to that table, to be used in lieu of the information published at 75 FR 29219. The table provided here represents the flooding sources, location of referenced elevations, effective and modified elevations, and communities affected for Scott County, Kentucky, and Incorporated Areas. Specifically, it addresses the following flooding sources: Dry Run, Dry Run Tributary 1 (backwater effects from Dry Run), Hall Branch (backwater effects from Eagle Creek), Lane Run, McCracken Creek (backwater effects from North Elkhorn Creek), Royal Springs Creek (backwater effects from North Elkhorn Creek), South Elkhorn Creek, Spoon Branch (backwater effects from Eagle Creek), and Town Branch (backwater effects from South Elkhorn Creek).

DATES: Comments are to be submitted on or before March 11, 2013.

ADDRESSES: You may submit comments, identified by Docket No. FEMA-B-1089, to Luis Rodriguez, Chief, Engineering Management Branch, Federal Insurance and Mitigation Administration, Federal Emergency Management Agency, 500 C Street SW., Washington, DC 20472, (202) 646-4064 or (email) Luis.Rodriguez3@fema.dhs.gov.

FOR FURTHER INFORMATION CONTACT: Luis Rodriguez, Chief, Engineering Management Branch, Federal Insurance and Mitigation Administration, Federal Emergency Management Agency, 500 C Street SW., Washington, DC 20472, (202) 646-4064 or (email) Luis.Rodriguez3@fema.dhs.gov.

SUPPLEMENTARY INFORMATION: The Federal Emergency Management Agency (FEMA) publishes proposed determinations of Base (1% annual-chance) Flood Elevations (BFEs) and modified BFEs for communities participating in the National Flood Insurance Program (NFIP), in accordance with section 110 of the Flood Disaster Protection Act of 1973, 42 U.S.C. 4104, and 44 CFR 67.4(a).

These proposed BFEs and modified BFEs, together with the floodplain management criteria required by 44 CFR 60.3, are minimum requirements. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Corrections

In the proposed rule published at 75 FR 29219, in the May 25, 2010, issue of the Federal Register, FEMA published a table under the authority of 44 CFR 67.4. The table, entitled “Scott County, Kentucky, and Incorporated Areas” addressed the following flooding sources: Dry Run, Dry Run Tributary 1 (backwater effects from Dry Run), Hall Branch (backwater effects from Eagle Creek), Lane Run, McCracken Creek (backwater effects from North Elkhorn Creek), Royal Springs Creek (backwater effects from North Elkhorn Creek), South Elkhorn Creek, Spoon Branch (backwater effects from Eagle Creek), and Town Branch (backwater effects from South Elkhorn Creek). That table contained inaccurate information as to the affected communities for the flooding source Spoon Branch (backwater effects from Eagle Creek). In this notice, FEMA is publishing a table containing the accurate information, to address these prior errors. The information provided below should be used in lieu of that previously published.

Flooding source(s) | Location of referenced elevation | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Scott County, Kentucky, and Incorporated Areas
Dry Run | Approximately 0.5 mile upstream of the North Elkhorn Creek confluence | +800 | +801 | City of Georgetown, Unincorporated Areas of Scott County.
| Approximately 1.2 miles upstream of Burton Pike | None | +880
Dry Run Tributary 1 (backwater effects from Dry Run) | From the Dry Run confluence to approximately 0.3 mile downstream of I-75 | None | +828 | Unincorporated Areas of Scott County.
Hall Branch (backwater effects from Eagle Creek) | From the Eagle Creek confluence to approximately 0.3 mile upstream of Hinton-Sadieville Road | None | +780 | Unincorporated Areas of Scott County.
Lane Run | At the North Elkhorn Creek confluence | +812 | +811 | City of Georgetown, Unincorporated Areas of Scott County.
| Approximately 850 feet upstream of Delaplain Road | None | +889
McCracken Creek (backwater effects from North Elkhorn Creek) | From the North Elkhorn Creek confluence to approximately 269 feet downstream of the McCracken Creek Tributary 2 confluence | None | +782 | City of Georgetown, Unincorporated Areas of Scott County.
Royal Springs Creek (backwater effects from North Elkhorn Creek) | From the North Elkhorn Creek confluence to approximately 0.4 mile upstream of Paddler Lane | None | +798 | City of Georgetown, Unincorporated Areas of Scott County.
South Elkhorn Creek | Just downstream of South Weisenberger Mill Road | None | +813 | Unincorporated Areas of Scott County.
| At the Town Branch confluence | None | +816
Spoon Branch (backwater effects from Eagle Creek) | From the Eagle Creek confluence to approximately 783 feet upstream of Sadieville Road | None | +778 | City of Sadieville, Unincorporated Areas of Scott County.
Town Branch (backwater effects from South Elkhorn Creek) | From the South Elkhorn Creek confluence to approximately 0.4 mile upstream of the South Elkhorn Creek confluence | None | +816 | Unincorporated Areas of Scott County.
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street SW., Washington, DC 20472.
ADDRESSES
City of Georgetown
Maps are available for inspection at City Hall, 100 Court Street, Georgetown, KY 40324.
City of Sadieville
Maps are available for inspection at City Hall, 605 Pike Street, Sadieville, KY 40370.
Unincorporated Areas of Scott County
Maps are available for inspection at 100 East Main Street, Georgetown, KY 40324.

(Catalog of Federal Domestic Assistance No. 97.022, “Flood Insurance.”)

Dated: November 8, 2012.
James A. Walke,
Acting Deputy Associate Administrator for Mitigation, Department of Homeland Security, Federal Emergency Management Agency.

[FR Doc. 2012-29699 Filed 12-7-12; 8:45 am]

BILLING CODE 9110-12-P